DEPARTMENT OF TRANSPORTATION

Federal Aviation Administration

[Summary Notice No. PE-2012-20]

Petition for Exemption; Summary of Petition Received

AGENCY: Federal Aviation Administration (FAA), DOT.

ACTION: Notice of petition for exemption received.

SUMMARY: This notice contains a summary of a petition seeking relief from specified requirements of 14 CFR. The purpose of this notice is to improve the public's awareness of, and participation in, this aspect of FAA's regulatory activities. Neither publication of this notice nor the inclusion or omission of information in the summary is intended to affect the legal status of the petition or its final disposition.

DATES: Comments on this petition must identify the petition docket number involved and must be received on or before June 13, 2012.

ADDRESSES: You may send comments identified by Docket Number FAA-2002-13734 using any of the following methods:

• Government-wide rulemaking web site: Go to http://www.regulations.gov and follow the instructions for sending your comments electronically.

• Mail: Send comments to the Docket Management Facility; U.S. Department of Transportation, 1200 New Jersey Avenue SE., West Building Ground Floor, Room W12-140, Washington, DC 20590.

• Fax: Fax comments to the Docket Management Facility at 202-493-2251.

• Hand Delivery: Bring comments to the Docket Management Facility in Room W12-140 of the West Building Ground Floor at 1200 New Jersey Avenue SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue SE., Washington, DC, between 9 a.m. and 5 p.m., Monday through Friday, except Federal holidays.

FOR FURTHER INFORMATION CONTACT: Robert Hawks, Office of the Chief Counsel, Federal Aviation Administration, 800 Independence Avenue SW., Washington, DC 20591; telephone: (202) 267-7143; email: rob.hawks@faa.gov. This notice is published pursuant to 14 CFR 11.85.

Issued in Washington, DC, on May 17, 2012.
Lirio Liu,
Acting Director, Office of Rulemaking.

Petition for Exemption

Docket No.: FAA-2002-13734. Petitioner: Republic Airline, Inc.

Section of 14 CFR Affected: 14 CFR 93.123.

Description of Relief Sought: Republic Airline Inc. (Republic) requests an exemption from the slot limit for Ronald Reagan Washington National Airport (DCA) set forth in § 93.123(a). This exemption would permit Republic to continue to operate one slot, which it currently uses for nonstop service between DCA and Milwaukee County's General Mitchell International Airport.

On June 14, 2010, the FAA renewed Republic's exemption until September 30, 2012. That grant of exemption stated the FAA would publish any future extension petitions to permit the public to comment on the continued public interest served by this exemption. Specifically, the FAA requests comments focus on three issues: (1) Whether the FAA should extend the exemption to Republic for a period of at least 2 years; (2) whether the FAA should permit the exemption to retire according to its terms; and (3) whether the FAA should permit the exemption to retire and grant a similar exemption to another carrier following a lottery among interested new entrant or limited incumbent carriers as defined in 14 CFR 93.123. The FAA will review all comments received and may publish an additional notice.

[FR Doc. 2012-12668 Filed 5-23-12; 8:45 am]

BILLING CODE 4910-13-P